NUCLEAR REGULATORY COMMISSION

[Docket Nos. 50-338 AND 50-339]

Virginia Electric and Power Company; Notice of Withdrawal of Application for Amendments to Facility Operating Licenses

The U.S. Nuclear Regulatory Commission (the Commission) has granted the request of Virginia Electric and Power Company (the licensee) to withdraw its July 18, 2000, application, for proposed amendments to Facility Operating License Nos. NPF-4 and NPF-7 for the North Anna Power Station, Unit Nos. 1 and 2, located in Louisa County, Virginia.

The proposed amendments would have revised the Facility Operating Licenses to delay the implementation of Improved Technical Specifications to no later than December 20, 2002.

The Commission had previously issued a Notice of Consideration of Issuance of Amendments published in the Federal Register on July 25, 2002 (67 FR 48679), and repeated the notice in the Federal Register on August 6, 2002 (67 FR 50962). However, by letter dated August 26, 2002, the licensee stated they had implemented ITS on August 20, 2002. As such the proposed amendment is no longer needed.

For further details with respect to this action, see the application for amendments dated July 18, 2002, and the licensee's letter dated August 26, 2002, which withdrew the application for license amendments. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS should contact the NRC PDR reference staff by telephone at 1-800-397-4209 or 301-415-4737, or by e-mail to pdr@nrc.gov.

Dated at Rockville, Maryland, this 30th day of August, 2002.
For the Nuclear Regulatory Commission.
Stephen R. Monarque,
Project Manager, Section 1, Project Directorate II, Division of Licensing Project Management, Office of Nuclear Reactor Regulation.

[FR Doc. 02-22789 Filed 9-6-02; 8:45 am]

BILLING CODE 7590-01-P